DEPARTMENT OF ENERGY

Federal Energy Regulatory Commission

[Docket No. CP03-28-000]

Tennessee Gas Pipeline Company; Notice of Request Under Blanket Authorization

December 20, 2002.

Take notice that on December 17, 2002, Tennessee Gas Pipeline Company (Tennessee), 9 E. Greenway Plaza, Houston, Texas 77046, filed an application pursuant to sections 157.205 and 157.208 of the Commission's Regulations under the Natural Gas Act (“NGA”), for authority to increase the maximum allowable operating pressure (MAOP) on two supply laterals located in San Jacinto and Polk counties, Texas. Tennessee proposes to perform this activity under its blanket certificate issued in Docket No. CP82-413-000. This application is on file with the Commission and open to public inspection. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

Specifically, Tennessee seeks authority to increase the MAOP of its West Ace (“Line 27A-100”) and its West Ace—Duke and New Ace lateral (“Line 27A-200”) from 663 to 750 psig to facilitate receipts of natural gas. Tennessee states that Lines 27A-100 and 27A-200 are supply laterals connected to Tennessee's mainline. Tennessee explains that the operating pressure of its mainline is 750 psig, but whenever the pressure on the mainline exceeds 648 psig, producers on the laterals must be shut in to avoid pressure buildup that exceeds the 663 psig MAOP limits on the two laterals. Tennessee proposes these uprates on the two laterals so that it can consistently and reliably receive natural gas from the affected producers located on these lateral lines. Tennessee estimates that the project will cost approximately $43,300.

Tennessee states that: (1) The proposed increases in MAOP for the two laterals do not require the construction of any new pipeline facilities and will not involve any ground disturbance; (2) the uprate testing will be performed using nitrogen gas, and therefore Tennessee expects no adverse environmental impact; and (3) all work will be performed within Tennessee's existing rights-of-way.

Any questions regarding this application should be directed to Veronica Hill, Certificates & Regulatory Compliance, Tennessee Gas Pipeline Company, 9 E Greenway Plaza, Houston, Texas 77046, at 832-676-3295 or FAX 832-676-2231.

Any person or the Commission's staff may, within 45 days after issuance of the instant notice by the Commission, file pursuant to Rule 214 of the Commission's Procedural Rules (18 CFR 385.214) a motion to intervene or notice of intervention and, pursuant to section 157.205 of the Regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to section 7 of the NGA.

Comments, protests and interventions may be filed electronically via the Internet in lieu of paper; see 18 CFR 385.2001(a)(1)(iii) and the instructions on the Commission's Web site under the “e-Filing” link. The Commission strongly encourages electronic filings.

Magalie R. Salas,
Secretary.

[FR Doc. 02-32676 Filed 12-26-02; 8:45 am]

BILLING CODE 6717-01-P